DEPARTMENT OF LABOR

Occupational Safety and Health Administration

[Docket No. OSHA-2011-0061]

Federal Advisory Council on Occupational Safety and Health (FACOSH)

AGENCY: Occupational Safety and Health Administration (OSHA), Labor.

ACTION: Announcement of meeting and member appointment.

SUMMARY: The Federal Advisory Council on Occupational Safety and Health (FACOSH) will meet June 7, 2011, in Washington, DC. On January 12, 2011, the Secretary appointed one person to FACOSH. This Federal Register notice also announces this appointment.

DATES: FACOSH meeting: FACOSH will meet from 1 p.m. to 4 p.m., Tuesday, June 7, 2011.

Submission of comments, requests to speak, and requests for special accommodations: Comments, requests to speak at the FACOSH meeting, and requests for special accommodations to attend the FACOSH meeting must be submitted (postmarked, sent, transmitted) by May 31, 2011.

ADDRESSES: FACOSH meeting: FACOSH will meet in C-5521 Room 4, U.S. Department of Labor, 200 Constitution Avenue, NW., Washington, DC 20210.

Submission of comments and requests to speak: Comments and requests to speak at the FACOSH meeting, identified by Docket No. OSHA-2011-0061, may be submitted by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, hand delivery, messenger or courier service: You must submit a copy of your submission to the OSHA Docket Office, Room N-2625, U.S. Department of Labor, 200 Constitution Avenue, NW., Washington, DC 20210; telephone (202) 693-2350 (TTY (877) 889-5627). Deliveries (hand, express mail, messenger and courier service) are accepted during the Department of Labor's and OSHA Docket Office's normal business hours, 8:15 a.m.-4:45 p.m., e.t.

Requests for special accommodations for FACOSH meeting: Submit requests for special accommodations by telephone, e-mail or hard copy to Ms. Veneta Chatmon, OSHA, Office of Communications, Room N-3647, U.S. Department of Labor, 200 Constitution Avenue, NW., Washington, DC 20210; telephone (202) 693-1999; e-mail chatmon.veneta@dol.gov.

Instructions: All submissions must include the Agency name and docket number for this Federal Register notice (Docket No. OSHA-2011-0061). Because of security-related procedures, submissions by regular mail may result in a significant delay in their receipt. Please contact the OSHA Docket Office for information about security procedures for making submissions by hand delivery, express delivery, and messenger or courier service. For additional information on submitting comments and requests to speak, see the SUPPLEMENTARY INFORMATION section below.

Comments and requests to speak, including any personal information provided, will be posted without change at http://www.regulations.gov. Therefore, OSHA cautions interested persons about submitting certain personal information such as social security numbers and birthdates.

FOR FURTHER INFORMATION CONTACT: For press inquiries: Ms. Diana Petterson, Office of Public Affairs, U.S. Department of Labor, 200 Constitution Avenue, NW., Washington, DC 20210; telephone (202)-693-1898; e-mail petterson.diana@dol.gov.

For general information: Mr. Francis Yebesi, OSHA, Office of Federal Agency Programs, U.S. Department of Labor, Room N-3622, 200 Constitution Avenue, NW., Washington, DC 20210; telephone (202) 693-2122; e-mail ofap@dol.gov.

SUPPLEMENTARY INFORMATION:

FACOSH Meeting

FACOSH will meet Tuesday, June 7, 2011, in Washington, DC. All FACOSH meetings are open to the public.

FACOSH is authorized by 5 U.S.C. 7902, section 19 of the Occupational Safety and Health Act of 1970 (OSH Act) (29 U.S.C. 668), and Executive Order 12196 to advise the Secretary of Labor (Secretary) on all matters relating to the occupational safety and health of Federal employees. This includes providing advice on how to reduce and keep to a minimum the number of injuries and illnesses in the Federal workforce and how to encourage each Federal Executive Branch Department and Agency to establish and maintain effective occupational safety and health programs.

The tentative agenda for the FACOSH meeting includes:

• Emerging Issues Subcommittee update on its analysis of Permissible Exposure Limits applicable to Federal agencies;

• Training Subcommittee update on its review of occupational safety and health training requirements for Federal workers and requirements of the Safety and Health Management and Industrial Hygiene OPM job series;

• Presentation on the Department of Labor national outreach initiative to protect workers from heat-related illnesses and its application to Federal workers; and

• Update on a national outreach initiative to protect workers from the hazard of distracted driving and its application to Federal workers,

FACOSH meetings are transcribed and detailed minutes of the meetings are prepared. Meeting transcripts, minutes and other materials presented at the meeting are included in the FACOSH meeting record, which is posted at http://www.regulations.gov.

Public Participation

FACOSH meetings are open to the public. Interested persons may submit a request to make an oral presentation to FACOSH by one of the methods listed in the ADDRESSES section. The request must state the amount of time requested to speak, the interest represented (e.g., organization name), if any, and a brief outline of the presentation. Requests to address FACOSH may be granted as time permits and at the discretion of the FACOSH chair.

Interested persons also may submit comments, including data and other information, using one of the methods listed in the ADDRESSES section. OSHA will provide all submissions to FACOSH members prior to the meeting and put them in the public docket for that meeting.

Individuals who need special accommodations and wish to attend the FACOSH meeting must contact Ms. Chatmon by one of the methods listed in the ADDRESSES section.

Submissions and Access to Public Record

You may submit comments, requests to speak and requests for special accommodations (1) electronically, (2) by facsimile, or (3) by hard copy. All submissions, including attachments and other materials, must identify the Agency name and the OSHA docket number for this notice (Docket No. OSHA-2011-0061). You may supplement electronic submissions by uploading documents electronically. If, instead, you wish to submit hard copies of supplementary documents, you must submit a copy to the OSHA Docket Office using the instructions in the ADDRESSES section. The additional materials must clearly identify your electronic submission by name, date and docket number.

Because of security-related procedures, the use of regular mail may cause a significant delay in the receipt of submissions. For information about security procedures concerning the delivery of submissions by hand, express delivery, messenger or courier service, please contact the OSHA Docket Office at (202) 693-2350 (TTY (877) 889-5627).

Written comments and requests to speak are posted without change at http://www.regulations.gov. Therefore, OSHA cautions interested parties about submitting certain personal information such as Social Security numbers and birthdates.

Meeting transcripts, minutes, written comments and requests to speak are included in the public record of the FACOSH meeting. To read or download documents in the public record, go to Docket No. OSHA-2011-0061 at http://www.regulations.gov or to the OSHA Docket Office. Although all documents in the public listed in the http://www.regulations.gov index, some documents (e.g., copyrighted material) are not publicly available to read or download through that Webpage. All documents in the public record, including copyrighted material, are available for inspection and copying at the OSHA Docket Office.

Information on using the http://www.regulations.gov to make submissions and to access the docket and exhibits is available at that Webpage. Contact the OSHA Docket Office for information about materials not available through the Webpage and for assistance in using the Internet to locate documents in the public record.

Electronic copies of this Federal Register notice are available at http://www.regulations.gov. This notice, as well as news releases and other relevant information, is also available at OSHA's Web page at http://www.osha.gov.

Announcement of FACOSH Appointments

The Secretary has appointed Mr. Edward A. Hamilton, Sr., U.S. Department of Justice, to complete the unexpired term of a FACOSH management member who is no longer able to serve on the Council. FACOSH is comprised of 16 members; eight who represent Federal agency management and eight from labor organizations that represent Federal employees.

Authority and Signature

David Michaels, PhD, MPH, Assistant Secretary of Labor for Occupational Safety and Health, directed the preparation of this notice under the authority granted by section 19 of the Occupational Safety and Health Act of 1970 (OSH Act) (29 U.S.C. 668), 5 U.S.C. 7902, the Federal Advisory Committee Act (5 U.S.C. App. 2) and regulations issued under FACA (41 CFR part 102-3), section 1-5 of Executive Order 12196, and Secretary of Labor's Order No. 4-2010 (75 FR 55335 (9/10/2010)).

Signed at Washington, DC, on May 13, 2011.
David Michaels,
Assistant Secretary of Labor for Occupational Safety and Health.

[FR Doc. 2011-12190 Filed 5-17-11; 8:45 am]

BILLING CODE 4510-26-P